ENVIRONMENTAL PROTECTION AGENCY

[FRL-7249-2]

Announcement of Public Comment Period for Draft Contaminated Sediments Science Plan

AGENCY: Environmental Protection Agency (EPA).

ACTION: Notice of availability; request for comments.

SUMMARY: The Environmental Protection Agency has developed and requests public comment on the draft Contaminated Sediments Science Plan. The Contaminated Sediments Science Plan is available electronically at http://www.epa.gov/superfund/action/guidance/cssp.pdf and http://www.epa.gov/superfund/action/guidance/cssp-appendix.pdf. This science plan is a mechanism for the EPA to develop and coordinate Agency-wide science activities in the contaminated sediments area. Along with the EPA's contaminated sediments science activities database, this plan provides an analysis of the current Agency science activities in this area, identifies and evaluates the science gaps, and provides a strategy for filling those gaps. Implementation of the science recommendations will be contingent upon overall Agency priorities and resources available within the annual budgetary planning cycle. Four questions for which the EPA is particularly seeking public comment are provided below in the section Issues for Public Comment. The information submitted in response to this notice will be considered by the EPA in the completion of the final document.

DATES: Comments must be received on or before September 20, 2002.

ADDRESSES: Comments may be submitted electronically, by mail, or through hand delivery/courier. Follow the detailed instructions provided in section I.B. of the SUPPLEMENTARY INFORMATION section.

FOR FURTHER INFORMATION CONTACT: Contact the RCRA/Superfund Call Center at (800) 424-9346; from the Washington, DC, metropolitan area call (703) 412-9810. The Telecommunications Device for the Deaf (TDD) number is (800) 553-7672; from the Washington, DC, metropolitan area the number is (703) 412-3323. For technical inquiries, you may contact Lee Hofmann, Office of Solid Waste and Emergency Response, Mail Code 5103T, U.S. Environmental Protection Agency, 1200 Pennsylvania Ave., NW., Washington, DC 20460 at telephone number 202-566-1928, or by email hofmann.lee@epa.gov.

SUPPLEMENTARY INFORMATION:

I. General Information

A. How Can I Get Copies of This Document and Other Related Information?

1. Docket: The EPA has established an official public docket for this action under Docket ID No. SFUND-2002-0004. The official public docket is the collection of materials that is available for public viewing at EPA, Superfund Docket located at 1235 Jefferson Davis Highway, Arlington, Virginia. This Docket Facility is open from 9:00 a.m. to 4:00 p.m. EST, Monday through Friday, excluding legal holidays. The Docket telephone number is (703) 603-9232.

2. Electronic Access. You may access this Federal Register notice or document electronically through the EPA Internet under the “Federal Register” listings at http://www.epa.gov/fedrgstr/.

An electronic version of the public docket is available through the EPA's electronic public docket and comment system, EPA Dockets. You may use the EPA Dockets at http://www.epa.gov/edocket/ to submit or view public comments, to access the index listing of the contents of the official public docket, and to access those documents in the public docket that are available electronically. Once in the system, select “search,” then key in the appropriate docket identification number.

Certain types of information will not be placed in the EPA Dockets. Information claimed as CBI and other information whose disclosure is restricted by statute, which is not included in the official public docket, will not be available for public viewing in the EPA's electronic public docket. The EPA's policy is that copyrighted material will not be placed in the EPA's electronic public docket but will be available only in printed, paper form in the official public docket. Although not all docket materials may be available electronically, you may still access any of the publicly available docket materials through the docket facility identified in section I.B.

For public commenters, it is important to note that the EPA's policy is that public comments, whether submitted electronically or in paper, will be made available for public viewing in the EPA's electronic public docket as the EPA receives them and without change, unless the comment contains copyrighted material, CBI, or other information whose disclosure is restricted by statute. When the EPA identifies a comment containing copyrighted material, the EPA will provide a reference to that material in the version of the comment that is placed in the EPA's electronic public docket. The entire printed comment, including the copyrighted material, will be available in the public docket.

Public comments submitted on computer disks that are mailed or delivered to the docket will be transferred to the EPA's electronic public docket. Public comments that are mailed or delivered to the Docket will be scanned and placed in the EPA's electronic public docket. Where practical, physical objects will be photographed, and the photograph will be placed in the EPA's electronic public docket along with a brief description written by the docket staff.

For additional information about the EPA's electronic public docket visit EPA Dockets online or see 67 FR 38102, May 31, 2002.

B. How and to Whom Do I Submit Comments?

You may submit comments electronically, by mail, by facsimile, or through hand delivery/courier. To ensure proper receipt by the EPA, identify the appropriate docket identification number in the subject line on the first page of your comment. Please ensure that your comments are submitted within the specified comment period. You may submit comments until 60 days from the date of this document. Comments received after the close of the comment period will be marked “late.” The EPA is not required to consider these late comments.

1. Electronically. If you submit an electronic comment as prescribed below, the EPA recommends that you include your name, mailing address, and an e-mail address or other contact information in the body of your comment. Also include this contact information on the outside of any disk or CD ROM you submit, and in any cover letter accompanying the disk or CD ROM. This ensures that you can be identified as the submitter of the comment and allows the EPA to contact you in case the EPA cannot read your comment due to technical difficulties or needs further information on the substance of your comment. The EPA's policy is that the EPA will not edit your comment, and any identifying or contact information provided in the body of a comment will be included as part of the comment that is placed in the official public docket, and made available in the EPA's electronic public docket. If the EPA cannot read your comment due to technical difficulties and cannot contact you for clarification, the EPA may not be able to consider your comment.

i. EPA Dockets. Your use of the EPA's electronic public docket to submit comments to the EPA electronically is the EPA's preferred method for receiving comments. Go directly to EPA Dockets at http://www.epa.gov/edocket, and follow the online instructions for submitting comments. To access the EPA's electronic public docket from the EPA Internet Home Page, select “Information Sources, Dockets,” and “EPA Dockets.” Once in the system, select “search,” and then key in Docket ID No. SFUND-2002-0004. The system is an “anonymous access” system, which means the EPA will not know your identity, e-mail address, or other contact information unless you provide it in the body of your comment.

ii. E-mail. Comments may be sent by electronic mail (e-mail) to Superfund.docket@epa.gov, Attention Docket ID No. SFUND-2002-0004. In contrast to the EPA's electronic public docket, the EPA's e-mail system is not an “anonymous access” system. If you send an e-mail comment directly to the Docket without going through the EPA's electronic public docket, the EPA's e-mail system automatically captures your e-mail address. E-mail addresses that are automatically captured by the EPA's e-mail system are included as part of the comment that is placed in the official public docket, and made available in the EPA's electronic public docket.

iii. Disk or CD ROM. You may submit comments on a disk or CD ROM that you mail to the mailing address identified in section I.B.2. These electronic submissions will be accepted in WordPerfect or ASCII file format. Avoid the use of special characters and any form of encryption.

2. By Mail. Send an original and three copies of your comments and enclosures (including references) to: EPA, Superfund Docket Contaminated Sediments Science Plan, Mail Code 5202G, 1200 Pennsylvania Ave., NW, Washington, DC 20460, Attention Docket ID No. SFUND-2002-0004. If you want receipt of your comments acknowledged, you must include a self-addressed, stamped envelope.

3. By Hand Delivery or Courier. Deliver an original and three copies of your comments and enclosures (including references) to: Superfund Docket, 1235 Jefferson Davis Highway, Arlington, Virginia, Attention Docket ID No. SFUND-2002-0004. Such deliveries are only accepted during the Docket's normal hours of operation as identified in Unit I.A.1.

4. By Facsimile. Fax your comments to: (703) 603-9240, Attention Docket ID. No. SFUND-2002-0004.

II. Purpose of the Science Plan

This Contaminated Sediments Science Plan is a mechanism for the U.S. Environmental Protection Agency (EPA) to develop and coordinate Agency-wide science activities in the contaminated sediments area. Along with the EPA's contaminated sediments science activities database, this plan provides an analysis of the current Agency science activities in this area, identifies and evaluates the science gaps, and provides a strategy for filling these gaps. The Contaminated Sediments Science Plan has three goals to promote the vision of providing a strong scientific basis for addressing contaminated sediments: (1) To develop and disseminate the tools and science necessary to address the management of contaminated sediments; (2) To enhance the level of coordination and communication of science activities dealing with contaminated sediments across the Agency Program and Regional Offices and the Office of Research and Development; and (3) To develop an effective, cost-efficient strategy to promote these scientific activities and research.

III. Description of Science Plan

The draft document has four chapters. Chapter 1 discusses the goals and objectives and how the Science Plan relates to the Agency's mandate. Chapter 2 provides an overview of the contaminated sediments work across the Agency. These issue summaries provide the overall context for the discussion of the specific research and science needs given in the rest of the Science Plan. Chapter 3, along with the EPA's contaminated sediments science activities database (Appendix A), is the data collection and analysis section of the Science Plan. It documents the current contaminated sediment science activities ongoing within the Agency and places these activities within the context of Agency goals. These activities are sediment site characterization, exposure assessment, human health and ecological risk assessment, risk communication, sediment remediation, baseline and post-remediation monitoring and information management and exchange activities. Significant data gaps and uncertainties in methodology/assessment procedures are identified. Finally, it proposes research and science activities to fill those data gaps and resolve related issues. Chapter 4 provides the key recommendations for future Agency science activities, including research, based upon the discussion in Chapter 3. For each recommendation, critical EPA partners, and the immediate or long-term nature of the science activity are proposed. An internal mechanism for implementing the science recommendations is proposed. Implementation of the science recommendations will be contingent upon overall Agency priorities and resources available within the annual budgetary planning cycle.

Issues for Public Comment: The EPA solicits comments on all aspects of the draft science plan. In particular, the EPA requests comments and information on the following questions: (1) The Contaminated Sediments Science Plan (Science Plan) is the first official Agency science plan of its kind designed to address a significant cross-agency environmental issue in a systematic and integrated fashion. Does the Science Plan adequately convey the need for such a strategic planning document, i.e., are the goals and objectives of the plan understandable and appropriate to the subject? (2) Are the major areas of contaminated sediments science (sediment site characterization, exposure assessment, human health effects and risk assessment, ecological effects and risk assessment, sediment remediation, baseline and post-remediation monitoring, risk communication, and information management and exchange activities) appropriately addressed? Are any major areas missing?

(3) Are the key recommendations clearly defined and appropriate to resolve the science needs discussed in Chapter 3?

(4) Are there other issues or key recommendations which should be considered in this Science Plan?

Dated: July 12, 2002.
Marianne Lamont Horinko,
Assistant Administrator, Office of Solid Waste and Emergency Response.

[FR Doc. 02-18406 Filed 7-19-02; 8:45 am]

BILLING CODE 6560-50-P